LEGAL SERVICES CORPORATION

2022 LSC Technology Initiative Grant Funding Notice

AGENCY: Legal Services Corporation (LSC).

ACTION: Notice.

SUMMARY: The Legal Services Corporation issues this Notice describing the conditions for submitting a Pre-Application for 2022 Technology Initiative Grants.

DATES: Pre-Applications must be submitted by 11:59 p.m. EST on Friday, March 18, 2021.

ADDRESSES: Pre-Applications must be submitted electronically to https://grantease.lsc.gov/.

FOR FURTHER INFORMATION CONTACT: David Bonebrake, Program Counsel, Office of Program Performance, Legal Services Corporation, 3333 K Street NW, Washington, DC 20007; (202) 295-1547 or dbonebrake@lsc.gov.

SUPPLEMENTARY INFORMATION:

I. Introduction

Since 2000, Congress has provided an annual appropriation to LSC to award special funding for client self-help and information technology projects. LSC's Technology Initiative Grant (TIG) program funds technology tools that help achieve LSC's goal of increasing the quantity and quality of legal services available to eligible persons. Projects funded under the TIG program develop, test, and replicate innovative technologies that can enable grant recipients and state justice communities to improve low-income persons' access to high-quality legal assistance through an integrated and well-managed technology system. The TIG program also supports effective technology planning and management at LSC-funded organizations through the use of targeted assessment grants focused on improvements to technology systems and information security.

II. Funding Opportunities Information

A. Eligible Applicants

To be eligible for Technology Initiative Grants, applicants must be current grantees of LSC Basic Field-General, Basic Field-Migrant, or Basic Field-Native American grants. In addition, applicants must receive basic field funding of at least a one-year term, be up to date on reporting on any existing TIG-funded projects, and not have had a previous TIG terminated in the past three years for reporting or other performance issues.

B. Technology Initiative Grant Purpose and Key Goals

Since LSC's TIG program was established in 2000, LSC has made over 826 grants totaling over $77 million. This grant program encourages organizations to use technology in innovative ways to:

1. Effectively and efficiently provide high-quality legal assistance to low-income persons and to promote access to the judicial system through legal information, advice, and representation.

2. Improve service delivery, quality of legal work, and management and administration of grantees.

3. Develop, test, and replicate innovative strategies that can enable grantees and state justice communities to improve clients' access to high-quality legal assistance.

C. Funding Categories

1. General Technology Initiative Grants

Projects in this category (1) implement new or innovative approaches for using technology in legal services delivery; (2) enhance the effectiveness and efficiency of existing technologies so that they may be better used to increase the quality and quantity of services to clients; or (3) replicate, adapt, or provide added value to the work of prior technology projects. This includes, but is not limited to, the implementation and improvement of tested methodologies and technologies from previous TIG projects. We also encourage replication of proven technologies from non-LSC funded legal aid organizations as well as sectors outside the legal aid community.

LSC recommends a minimum amount for funding requests in this category of $40,000, but projects with lower budgets will be considered. There is no maximum amount for TIG funding requests that are within the total appropriation for TIG. All applicants in this category must submit a pre-application according to the process and requirements outlined in this notice.

2. Technology Improvement Projects

LSC recognizes that grantees need sufficient technology infrastructure in place before they can take on a more innovative TIG project, and this grant category is for applicants that need to improve their basic technology infrastructure or their information security posture. The maximum funding amount for this category is $35,000.

Please note that Technology Improvement Projects do not require a pre-application. LSC will open the application system and provide guidance for this project category by April 15, 2022. The application deadline for Technology Improvement Projects is May 20, 2022.

D. Available Funds for 2022 Grants

The availability of funds for Technology Initiative Grants for FY2022 depends on LSC's appropriation. LSC is currently operating under a Continuing Resolution for FY2022, which funds the federal government through February 18, 2022. The Continuing Resolution maintains funding at $4,250,000. Technology Initiative Grant decisions for FY2022 will be made by September 2022. LSC anticipates publicizing the total amount available for Technology Initiative Grants when Congress enacts the FY2022 appropriation.

LSC will not designate fixed or estimated amounts for the two different funding categories and will make grant awards for the two categories within the total amount of funding available.

E. Grant Terms

Applicants to the Technology Initiative Grant (TIG) program may propose grant terms between 12 and 36 months for general category projects and between 12 and 18 months for technology improvement projects. The grant term is expected to commence on October 1, 2022.

III. Grant Application Process

A. Technology Initiative Grant Application Process

The Technology Initiative Grant (TIG) application process will be administered in LSC's unified grants management system, GrantEase. Applicants must first submit a pre-application to LSC in GrantEase by March 18, 2022, at 11:59 p.m. EDT, to be considered for a grant. After review by LSC staff, LSC's president decides which applicants will be asked to submit a full application. Applicants will be notified of approval to submit a full application by late-April 2022. Full applications are due to LSC in the GrantEase system on June 3, 2022, at 11:59 p.m. EDT. Once received, full applications will undergo a rigorous review by LSC staff. LSC's president makes the final decisions on funding for the Technology Initiative Grant program.

As noted above, applicants applying for Technology Improvement Project funding are not requirered to submit pre-applications. LSC will launch the online application system for these projects by April 15, 2022, and set a submission deadline of May 20, 2022, at 11:59 p.m. EDT.

B. Late or Incomplete Applications

LSC may consider a request to submit a pre-application after the deadline, but only if the applicant has submitted an email to techgrants@lsc.gov explaining the circumstances that caused the delay prior to the pre-application deadline. Communication with LSC staff, including assigned program liaisons, is not a substitute for sending a formal request and explanation to techgrants@lsc.gov. At its discretion, LSC may consider incomplete applications. LSC will determine the admissibility of late or incomplete applications on a case-by-case basis.

C. Multiple Pre-Applications

Applicants may submit multiple pre-applications under the same or different funding category. If applying for multiple grants, applicants should submit separate pre-applications for each funding request.

D. Additional Information and Guidelines

Additional guidance and instructions on the pre-application and application processes for Technology Initiative Grants will be available and regularly updated at https://www.lsc.gov/grants/technology-initiative-grant-program.

Authority: 42 U.S.C. 2996g(e).

Dated: February 1, 2022.
Stefanie Davis,
Senior Associate General Counsel for Regulations.

[FR Doc. 2022-02376 Filed 2-3-22; 8:45 am]

BILLING CODE 7050-01-P